DEPARTMENT OF ENERGY

Federal Energy Regulatory Commission

Notice of Application for Amendment of License and Soliciting Comments, Protests, and Motions To Intervene

February 25, 2005.

Take notice that the following application has been filed with the Commission and is available for public inspection:

a. Application Type: Amendment to license article 105.

b. Project Number: P-11077-059.

c. Date Filed: December 10, 2004.

d. Applicant: Goat Lake Hydro, Inc. (Goat Lake).

e. Name of Project: Goat Lake Hydroelectric Project.

f. Location: The project is located on Pitchfork Falls in Skagway, Alaska. The project occupies lands within the Tongass National Forest.

g. Filed Pursuant to: Federal Power Act, 16 U.S.C. 791(a)-825(r).

h. Applicant Contacts: Glen Martin, Goat Lake Hydro, Inc., PO Box 459, Skagway, AK 99840; phone: (907) 983-2808.

i. FERC Contact: Any questions on this notice should be addressed to Steve Naugle at (202) 502-6061, or by e-mail: steven.naugle@ferc.fed.gov.

j. Deadline for filing comments and or motions: March 18, 2005.

k. Description of the Application: Goat Lake requests that article 105 be amended to: (1) Reduce the minimum flow required over Pitchfork Falls between May 15 and September 30, annually, from 13 to 8.5 cubic feet per second; and (2) change the present violation criteria for meeting this minimum flow requirement from “any time flows drop below the required minimum flow” to “flows below the required minimum flow for more than two consecutive hours” and that such occurrences be considered a reportable violation only if there are more than three such occurrences in any given month.

l. Location of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, or for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers (P-1494-269). All documents (original and eight copies) should be filed with: Magalie R. Salas, Secretary, Federal Energy Regulatory Commission, 888 First Street, NE., Washington, DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests, and interventions may be filed electronically via the Internet in lieu of paper. See 18 CFR 385.2001(a)(1)(iii) and the instructions on the Commission's Web site at http://www.ferc.gov under the “e-Filing” link.

Magalie R. Salas,
Secretary.

[FR Doc. E5-890 Filed 3-2-05; 8:45 am]

BILLING CODE 6717-01-P